DEPARTMENT OF COMMERCE

International Trade Administration

[C-475-819]

Certain Pasta From Italy: Partial Rescission of Countervailing Duty Administrative Review; 2015

AGENCY: Enforcement and Compliance, International Trade Administration, Department of Commerce.

SUMMARY: The Department of Commerce (the Department) is rescinding the administrative review of the countervailing duty (CVD) order on certain pasta from Italy, in part, for the period of review (POR) January 1, 2015, through December 31, 2015, based on the timely withdrawal of requests for review by seven companies; the administrative review continues for Liguori Pastificio dal 1820 S.p.A. (Liguori).

DATES: Effective January 4, 2017.

FOR FURTHER INFORMATION CONTACT: Mary Kolberg, AD/CVD Operations, Office I, Enforcement and Compliance, International Trade Administration, U.S. Department of Commerce, 1401 Constitution Avenue NW., Washington DC 20230; telephone: (202) 482-1785.

SUPPLEMENTARY INFORMATION:

Background

On July 5, 2016, the Department published the notice of opportunity to request an administrative review of the CVD order on certain pasta from Italy for the POR January 1, 2015, through December 31, 2015.¹ On July 29, 2016, Pastificio Zaffiri S.r.l. (Zaffiri), Pastificio Andalini, S.p.A. (Andalini), Premiato Pastificio Afeltra S.r.l. (Afeltra), La Fabbrica della Pasta di Gagnano S.A.S. di Antonio Moccia (La Fabbrica), Pastifico Labor S.R.L. (Labor), and GR.A.M.M. S.R.L. (GR.A.M.M.) each requested that the Department conduct an administrative review of their exports of subject merchandise.² On August 1, 2016, Liguori and Tesa SrL (Tesa) also requested that the Department conduct an administrative review of their exports of subject merchandise.³ Pursuant to the requests received, and in accordance with 19 CFR 351.213(b), the Department initiated an administrative review of GR.A.M.M., La Fabbrica, Liguori, Andalini,, Labor, Zaffiri, Afeltra, and Tesa.⁴

¹ See Antidumping or Countervailing Duty Order, Finding, or Suspended Investigation; Opportunity to Request Administrative Review, 81 FR 43584 (July 5, 2016).

² See letter from Zaffiri, re: “Certain Pasta from Italy, C-475-819; Request for Administrative Review by Pastificio Zaffiri S.r.l.,” dated July 29, 2016; see also letter from Andalini, re: “Certain Pasta from Italy, C-475-819; Request for Administrative Review by Pastificio Andalini, S.p.A.,” dated July 29, 2016; see also letter from Afeltra, re: “Certain Pasta from Italy, C-475-819; Request for Administrative Review by Premiato Pastificio Afeltra S.r.l.,” dated July 29, 2016; see also letter from La Fabbrica, re: “Certain Pasta from Italy, C-475-819; Request for Administrative Review by La Fabbrica della Pasta di Gagnano S.A.S.,” dated July 29, 2016; see also letter from Labor, re: “Certain Pasta from Italy, C-475-819; Request for Administrative Review by Labor S.R.L.,” dated July 29, 2016; see also letter from GR.A.M.M., re: “Certain Pasta from Italy, C-475-819; Request for Administrative Review by GR.A.M.M. S.R.L.,” dated July 29, 2016.

³ See letter from Liguori, re: Certain Pasta from Italy: Countervailing Duty Administrative Review Request,” dated August 1, 2016; see also letter from Tesa, re: “Pasta from Italy; Request for Administrative Review,” dated August 1, 2016.

⁴ See Initiation of Antidumping and Countervailing Duty Administrative Reviews, 81 FR 62720 (September 12, 2016).

On November 7, 2016, Tesa timely withdrew its request for administrative review.⁵ On December 12, 2016, La Fabbrica, GR.A.M.M., Labor, Afeltra, Zaffiri, and Andalini timely withdrew their requests for an administrative review.⁶

⁵ See letter from Tesa, “Pasta from Italy: Withdrawal of request for administrative review,” dated November 7, 2016.

⁶ See letter from La Fabbrica della Pasta di Gragnano S.A.S., re: “Certain Pasta from Italy, C-475-819; Withdrawal of Request for Administrative Review by La Fabbrica della Pasta di Gragnano S.A.S.,” dated December 12, 2016; see also letter from GR.A.M.M. Srl, re: Certain Pasta from Italy, C-475-819; Withdrawal of Request for Administrative Review by GR.A.MM. Srl,” dated December 12, 2016; see also letter from Labor Srl, re: “Certain Pasta from Italy, C-475-819; Withdrawal of Request for Administrative Review by Labor Srl,” dated December 12, 2016; see also letter from Premiato Pastificio Afeltra S.r.l., re: “Certain Pasta from Italy, C-475-819; Withdrawal of Request for Administrative Review by Premiato Pastificio Afeltra S.rl.,” dated December 12, 2016; see also letter from Pastificio Zaffiri S.r.l., re: “Certain Pasta from Italy, C-475-819; Withdrawal of Request for Administrative Review by Pastificio Zaffiri S.r.l..,” dated December 12, 2016; see also letter from Pastifico Andalini, S.p.A., re: “Certain Pasta from Italy, C-475-819; Withdrawal of Request for Administrative Review by Pastificio Andalini, S.p.A.,” dated December 12, 2016.

Partial Rescission of Review

Pursuant to 19 CFR 351.213(d)(1), the Department will rescind an administrative review, in whole or in part, if the party or parties that requested a review withdraws the request within 90 days of the publication date of the notice of initiation of the requested review. As noted above, requests for review were withdrawn, and parties withdrew their requests within 90 days of the publication date of the notice of initiation. Therefore, in accordance with 1 9 CFR 351.213(d)(1), we are rescinding this review with respect to Tesa, La Fabbrica, GR.A.M.M., Labor, Afeltra, Zaffiri, and Andalini. The administrative review will continue with respect to Liguori.

Assessment

The Department will instruct U.S. Customs and Border Protection (CBP) to assess countervailing duties on all appropriate entries of certain pasta from Italy. For the companies for which this review is rescinded, countervailing duties shall be assessed at rates equal to the cash deposit of estimated countervailing duties required at the time of entry, or withdrawal from warehouse, for consumption in accordance with 19 CFR 351.212(c)(1)(i). The Department intends to issue appropriate assessment instructions to CBP 15 days after the date of publication of this notice in the Federal Register.

Notifications

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(l) and 777(i)(1) of the Tariff Act of 1930, as amended, and 19 CFR 35l.213(d)(4).

Dated: December 28, 2016.
Christian Marsh,
Deputy Assistant Secretary for Antidumping and Countervailing Duty Operations.

[FR Doc. 2016-31886 Filed 1-3-17; 8:45 am]

BILLING CODE 3510-DS-P